FEDERAL COMMUNICATIONS COMMISSION

47 CFR Part 73

[MB Docket No. 19-127, RM-11830; DA 19-654]

Radio Broadcasting Services; Kahlotus, Washington

AGENCY: Federal Communications Commission.

ACTION: Final rule.

SUMMARY: At the request of Xana HD Solutions, LLC., the Audio Division amends the FM Table of Allotments, by allotting Channel 283A at Kahlotus, Washington, as the first local service. A staff engineering analysis indicates that Channel 283A can be allotted to Kahlotus, Washington, consistent with the minimum distance separation requirements of the Commission's rules with a site restriction of 6.2 kilometers (3.88 miles) southeast of Kahlotus. The reference coordinates are 46-38-00 NL 118-38-10 WL. Channel 283A at Kahlotus, Washington is located within 320 kilometers (199 miles) of the U.S.-Canadian border. Canadian concurrence has been received.

DATES: Effective September 2, 2019.

FOR FURTHER INFORMATION CONTACT: Rolanda F. Smith, Media Bureau, (202) 418-2700.

SUPPLEMENTARY INFORMATION: This is a synopsis of the Commission's Report and Order, MB Docket No. 19-127, adopted July 18, 2019, and released July 19, 2019. The full text of this Commission decision is available for inspection and copying during normal business hours in the FCC's Reference Information Center at Portals II, CY-A257, 445 12th Street SW, Washington, DC 20554. The full text is also available online at http://apps.fcc.gov/ecfs/. This document does not contain information collection requirements subject to the Paperwork Reduction Act of 1995, Public Law 104-13. The Commission will send a copy of the Report and Order in a report to be sent to Congress and the Government Accountability Office pursuant to the Congressional Review Act, see 5 U.S.C. 801(a)(1)(A).

List of Subjects in 47 CFR Part 73

Radio, Radio broadcasting.

Federal Communications Commission.
Nazifa Sawez,
Assistant Chief, Audio Division, Media Bureau.

For the reasons discussed in the preamble, the Federal Communications Commission amends 47 CFR part 73 as follows:

PART 73—RADIO BROADCAST SERVICES

1. The authority citation for part 73 continues to read as follows:

Authority: 47 U.S.C. 154, 155, 301, 303, 307, 309, 310, 334, 336, 339.

2. Amend § 73.202 by:

a. In the table in paragraph (b), adding a table heading and under Washington adding Kahlotus, Channel 283A, in alphabetical order; and

b. Removing the parenthetical authority citation at the end of the section.

The additions read as follows:

§ 73.202 Table of Allotments.

* * * * *

(b) * * *

Table 1 to Paragraph (b)
| Channel No.
* * * * *
Washington
* * * * *
Kahlotus | 283A
* * * * *

[FR Doc. 2019-16179 Filed 8-20-19; 8:45 am]

BILLING CODE 6712-01-P